DEPARTMENT OF TRANSPORTATION

Federal Aviation Administration

14 CFR Part 39

[Docket No. FAA-2025-0012; Project Identifier AD-2024-00219-T; Amendment 39-23047; AD 2025-11-01]

RIN 2120-AA64

Airworthiness Directives; The Boeing Company Airplanes

AGENCY: Federal Aviation Administration (FAA), DOT.

ACTION: Final rule.

SUMMARY: The FAA is adopting a new airworthiness directive (AD) for certain The Boeing Company Model 757-200, -200CB, and -300 series airplanes. This AD was prompted by a report of cracking found in new locations at a certain body station (STA) during frame segment replacement repairs, including in the web at the K-hole between certain stringers, in the outer chord above the lower hinge intercostal, and in the inner chord and web between certain stringers. This AD requires an inspection or records check for the presence of approved or local repairs, repetitive eddy current inspections for cracking, and applicable on-condition actions. The FAA is issuing this AD to address the unsafe condition on these products.

DATES: This AD is effective July 8, 2025.

The Director of the Federal Register approved the incorporation by reference of certain publications listed in this AD as of July 8, 2025.

ADDRESSES:

AD Docket: You may examine the AD docket at regulations.gov under Docket No. FAA-2025-0012; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110 SK57, Seal Beach, CA 90740-5600; telephone 562-797-1717; website myboeingfleet.com.

• For the Aviation Partners Boeing material identified in this AD, contact Aviation Partners Boeing, 555 Andover Park West, Suite 200, Tukwila, WA 98188; telephone 206-830-7699; fax 206-767-0535; email leng@aviationpartners.com; website aviationpartnersboeing.com.

• You may view this material at the FAA, Airworthiness Products Section, Operational Safety Branch, 2200 South 216th St., Des Moines, WA. For information on the availability of this material at the FAA, call 206-231-3195. It is also available at regulations.gov under Docket No. FAA-2025-0012.

FOR FURTHER INFORMATION CONTACT: Wayne Ha, Aviation Safety Engineer, FAA, 2200 South 216th St., Des Moines, WA 98198; phone: 562-627-5238; email: wayne.ha@faa.gov.

SUPPLEMENTARY INFORMATION:

Background

The FAA issued a notice of proposed rulemaking (NPRM) to amend 14 CFR part 39 by adding an AD that would apply to certain The Boeing Company Model 757-200, -200CB, and -300 series airplanes. The NPRM was published in the Federal Register on January 31, 2025 (90 FR 8690). The NPRM was prompted by a report of cracking found in new locations at STA 1640 during frame segment replacement repairs, including in the web at the K-hole between stringers S-9 and S-10, in the outer chord above the lower hinge intercostal, and in the inner chord and web between stringers S-10 and S-19. In the NPRM, the FAA proposed to require an inspection or records check for the presence of approved or local repairs, repetitive eddy current inspections for cracking, and applicable on-condition actions. The FAA is issuing this AD to address undetected cracks in the fuselage frame at STA 1640, which could affect a principal structural element's ability to sustain limit load. The unsafe condition, if not addressed, could result in reduced structural integrity of the airplane.

Discussion of Final Airworthiness Directive

Comments

The FAA received comments from United Airlines and four individuals who supported the NPRM without change.

The FAA received additional comments from Aviation Partners Boeing (APB), FedEx, and an anonymous commenter. The following presents the comments received on the NPRM and the FAA's response to each comment.

Request To Revise Address for APB

APB requested a revision to the mailing address identified in paragraph (k)(4) of the proposed AD. APB noted that the address identified in that paragraph is not current and provided an address that is current with the reissuance of supplemental type certificate (STC) ST01518SE, dated April 20, 2024.

The FAA agrees to revise the address and has revised the ADDRESSES section and paragraph (k)(4) of this AD with the current address.

Request To Add an Exception To Address Frame Segment Replacement Repairs

FedEx requested an exception be added to paragraph (h) of the proposed AD to address frame segment replacement repairs that meet certain criteria and are FAA-approved in accordance with FAA Form 8100-9 or 8110-3. FedEx reasoned that if existing frame segment replacement repairs are approved as alternative methods of compliance (AMOCs) to other ADs, then those AMOCs should be extended to this proposed AD. FedEx stated that if the FAA does not include the suggested exception, then operators would need to apply for AMOCs for existing frame segment replacement repairs.

The FAA disagrees with the request to add this exception to paragraph (h) of this AD. The frame segment replacement repairs specified by FedEx are not identified in the Boeing Alerts Requirements Bulletin 757-53A0123 RB, dated March 13, 2024, and would need to be reviewed through the AMOC process specified in paragraph (i) of this AD. Although existing frame segment replacement repairs might be approved as AMOCs to other ADs, the repairs have not been reviewed to determine if they also address the unsafe condition identified in this AD. No change has been made to this AD in this regard.

Request To Explain Scope of Proposed AD

An individual commenter asked why the proposed AD was not already in effect and stated that the proposed rule should apply to every airline company.

The FAA agrees to clarify. In accordance with 14 CFR 39.5, the FAA issues an AD when an unsafe condition exists or is likely to develop in other products of the same type design. An AD will apply to products (aircraft, aircraft engines, propellers, and appliances) that either has or is likely to develop the unsafe condition. 14 CFR 39.7 specifies that once an AD is issued, no person may operate a product to which the AD applies except in accordance with the requirements of that AD. This AD was not previously issued because this safety issue was only recently found in service. Once the safety issue was reported, the FAA initiated the rulemaking process after performing an analysis of the findings and determining that an unsafe condition exists. The analysis led to the determination that this AD is applicable only to Model 757-200, -200CB, and -300 series airplanes. Thus, only operators of these affected models are required to comply with this AD.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Requirements Bulletin 757-53A0123 RB, dated March 13, 2024. This material specifies procedures for an inspection or records check for the presence of approved repairs at STA 1640 frame between stringers S-9 and S-19, left and right sides, or local repairs at specified locations at STA 1640; repetitive eddy current inspections for cracking of the STA 1640 frame inner chord, web and outer chord at specified locations; and applicable on-condition actions. On-condition actions include contacting Boeing for repair.

The FAA also reviewed Aviation Partners Boeing Alert Service Bulletin AP757-53-006, dated May 7, 2024. This material specifies procedures for an inspection or records check for the presence of approved repairs at STA 1640 frame between stringers S-9 and S-19, left and right sides, or local repairs at specified locations at STA 1640, repetitive eddy current inspections for cracking of the STA 1640 frame inner chord, web and outer chord at specified locations, and applicable on-condition actions. On-condition actions include contacting Boeing for repair.

These documents are distinct since they apply to different airplane configurations. This material is reasonably available because the interested parties have access to it through their normal course of business or by the means identified in the ADDRESSES section.

Costs of Compliance

The FAA estimates that this AD affects 481 airplanes of U.S. registry. The FAA estimates the following costs to comply with this AD:

Estimated Costs
Action | Labor cost | Parts cost | Cost per product | Cost on U.S. operators
Inspection for presence of repairs | 69 work-hours × $85 per hour = $5,865 | None | $5,865 | $2,821,065.
Eddy current inspections | Up to 74 work-hours × $85 per hour = $6,290 per inspection cycle | None | Up to $6,290 per inspection cycle | Up to $3,025,490 per inspection cycle.

The FAA has received no definitive data on which to base the cost estimates for the repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-11-01 The Boeing Company: Amendment 39-23047; Docket No. FAA-2025-0012; Project Identifier AD-2024-00219-T.

(a) Effective Date

This airworthiness directive (AD) is effective July 8, 2025.

(b) Affected ADs

None.

(c) Applicability

This AD applies to The Boeing Company Model 757-200, -200CB, and -300 series airplanes, certificated in any category, as identified in Boeing Alert Requirements Bulletin 757-53A0123 RB, dated March 13, 2024.

(d) Subject

Air Transport Association (ATA) of America Code 53, Fuselage.

(e) Unsafe Condition

This AD was prompted by a report of cracking found in new locations at body station (STA) 1640 during frame segment replacement repairs, including in the web at the K-hole between stringers S-9 and S-10, in the outer chord above the lower hinge intercostal, and in the inner chord and web between stringers S-10 and S-19. The FAA is issuing this AD to address undetected cracks in the fuselage frame at STA 1640, which could affect a principal structural element's ability to sustain limit load. The unsafe condition, if not addressed, could result in reduced structural integrity of the airplane.

(f) Compliance

Comply with this AD within the compliance times specified, unless already done.

(g) Required Actions

(1) For all airplanes except those identified in paragraph (g)(2) of this AD: Except as specified by paragraph (h) of this AD: At the applicable times specified in the “Compliance” paragraph of Boeing Alert Requirements Bulletin 757-53A0123 RB, dated March 13, 2024, do all applicable actions identified in, and in accordance with, the Accomplishment Instructions of Boeing Alert Requirements Bulletin 757-53A0123 RB, dated March 13, 2024.

Note 1 to paragraph (g)(1): Guidance for accomplishing the actions required by this AD can be found in Boeing Alert Service Bulletin 757-53A0123, dated March 13, 2024, which is referred to in Boeing Alert Requirements Bulletin 757-53A0123 RB, dated March 13, 2024.

(2) For airplanes identified in Aviation Partners Boeing Alert Service Bulletin AP757-53-006, dated May 7, 2024: Except as specified in paragraph (h) of this AD, at the applicable times specified in paragraph 1.E., “Compliance,” of Aviation Partners Boeing Alert Service Bulletin AP757-53-006, dated May 7, 2024, do all applicable actions identified in, and in accordance with, the Accomplishment Instructions of Boeing Alert Requirements Bulletin 757-53A0123 RB, dated March 13, 2024.

(h) Exceptions to Requirements Bulletin Specifications

(1) Where the Compliance Time columns of the tables in the “Compliance” paragraph of Boeing Alert Requirements Bulletin 757-53A0123 RB, dated March 13, 2024, refer to the original issue date of Requirements Bulletin 757-53A0123 RB, this AD requires using the effective date of this AD.

(2) Where Boeing Alert Requirements Bulletin 757-53A0123 RB, dated March 13, 2024, specifies contacting Boeing for repair instructions or for alternative inspections: This AD requires doing the repair, or doing the alternative inspections and applicable on-condition actions, using a method approved in accordance with the procedures specified in paragraph (i) of this AD.

(3) Where the Compliance Time columns of the tables in the “Compliance” paragraph of Aviation Partners Boeing Alert Service Bulletin AP757-53-006, dated May 7, 2024, refer to the original issue date of Requirements Bulletin 757-53A0123 RB, this AD requires using the effective date of this AD.

(4) Where Aviation Partners Boeing Alert Service Bulletin AP757-53-006, dated May 7, 2024, specifies contacting Boeing for repair instructions or for alternative inspections: This AD requires doing the repair, or doing the alternative inspections and applicable on-condition actions, using a method approved in accordance with the procedures specified in paragraph (i) of this AD.

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(j) Related Information

(1) For more information about this AD, contact Wayne Ha, Aviation Safety Engineer, FAA, 2200 South 216th St., Des Moines, WA 98198; phone: 562-627-5238; email: wayne.ha@faa.gov.

(2) Material identified in this AD that is not incorporated by reference is available at the address specified in paragraph (k)(3) of this AD.

(k) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Requirements Bulletin 757-53A0123 RB, dated March 13, 2024.

(ii) Aviation Partners Boeing Alert Service Bulletin AP757-53-006, dated May 7, 2024.

(3) For the Boeing material identified in this AD, contact Boeing Commercial Airplanes, Attention: Contractual & Data Services (C&DS), 2600 Westminster Blvd., MC 110-SK57, Seal Beach, CA 90740-5600; telephone 562-797-1717; website myboeingfleet.com.

(4) For the Aviation Partners Boeing material identified in this AD, contact Aviation Partners Boeing, 555 Andover Park West, Suite 200, Tukwila, WA 98188; telephone 206-830-7699; fax 206-767-0535; email leng@aviation partners.com; website aviationpartnersboeing.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on May 19, 2025.
Peter A. White,
Deputy Director, Integrated Certificate Management Division, Aircraft Certification Service.

[FR Doc. 2025-10060 Filed 6-2-25; 8:45 am]

BILLING CODE 4910-13-P